ENVIRONMENTAL PROTECTION AGENCY

40 CFR Part 300

[EPA-HQ-SFUND-1993-0003, EPA-HQ-SFUND-2000-0004, EPA-HQ-SFUND-2000-0007; FRL-10022-95-OLEM]

National Priorities List for Uncontrolled Hazardous Waste Sites; Partial Withdrawal of Proposed Rules

AGENCY: Environmental Protection Agency.

ACTION: Proposed rules; partial withdrawal.

SUMMARY: The Environmental Protection Agency (EPA) is partially withdrawing three previous proposed rules which proposed to add five sites to the Superfund National Priorities List (NPL). The NPL is the list of sites of national priority among the known releases or threatened releases of hazardous substances, pollutants, or contaminants throughout the United States and its territories. The NPL is intended primarily to guide the EPA in determining which sites warrant further investigation.

DATES: The proposed rules to add these five sites to the NPL previously published at 58 FR 27507 (May 10, 1993), 65 FR 30489 (May 11, 2000) and 65 FR 75215 (December 1, 2000) are partially withdrawn effective April 30, 2021.

FOR FURTHER INFORMATION CONTACT: Terry Jeng, phone: (703) 603-8852, email: jeng.terry@epa.gov, Site Assessment and Remedy Decisions Branch, Assessment and Remediation Division, Office of Superfund Remediation and Technology Innovation (Mailcode 5204P), U.S. Environmental Protection Agency, 1200 Pennsylvania Avenue NW, Washington, DC 20460.

SUPPLEMENTARY INFORMATION: EPA proposes sites be placed on the NPL via a proposed rulemaking published in the Federal Register. Following a public comment period, most sites are added to the NPL. However, there exists a small subset of sites that have been proposed to the NPL but never added. These sites remain proposed until a decision is made to either withdraw the proposal or add the site to the NPL.

By withdrawing proposals to list sites where listing is no longer appropriate, EPA can reduce the backlog of proposed sites and focus essential resources elsewhere. Once cleanup goals are attained or the determination is made that the site does not pose a significant threat to human health or the environment, it is not necessary to continue the listing process; thus, preserving the NPL for the highest priority sites.

To facilitate the proposed rule withdrawal process, EPA issued its de-proposal policy, Guidelines for Withdrawing a Proposal to List a Site on the NPL on November 12, 2002. The policy states that in order to qualify for de-proposal, EPA should provide adequate rationale that the site generally either meets deletion-equivalent criteria and no further response under Superfund is appropriate or EPA should explain why such criteria are not applicable to the decision to withdraw the proposal. The Superfund Program Implementation Manual (SPIM) clarifies that de-proposal criteria includes documented deferral or referral of a proposed site to another cleanup authority.

The deletion provisions (40 CFR 300.425(e)) state that releases may be deleted from the NPL where no further response is appropriate. Further, in determining whether a release should be deleted, EPA considers whether any of the following criteria has been met:

• Responsible or other parties have implemented all appropriate response actions required;

• All appropriate Fund-financed response under CERCLA has been implemented, and no further response action by responsible parties is appropriate; or,

• The remedial investigation has shown that the release poses no significant threat to public health or the environment, and, therefore, taking of remedial measures is not appropriate.

EPA is partially withdrawing three previously proposed rules which proposed adding the following five sites to the NPL. All five of the sites meet EPA's de-proposal criteria. Documentation to support EPA's decision to de-propose these sites can be found in each of the site dockets at https://www.regulations.gov.

Therefore, the proposal to add the five sites listed in the list that follows to the National Priorities List previously proposed at 58 FR 27507 (May 10, 1993), 65 FR 30489, (May 11, 20000) and 65 FR 75215, December 1, 2000) is hereby withdrawn effective April 30, 2021.

Site name and location | Date proposed for NPL addition/FR citation | Site-specific basis for de-proposal
Broad Brook Mill, East Windsor, CT | 12/01/2000 (65 FR 75215) | Significant progress has been and continues to be made and there is no current risk to human health at the site. The responsible party, Raytheon Technologies, will continue to address the site under the ongoing oversight of the Connecticut Department of Energy and Environmental Protection (CTDEEP) in accordance with state laws. Further documentation may be found in https://www.regulations.gov using Docket number EPA-HQ-SFUND-2000-0004.
Chanute Air Force Base, Rantoul, IL | 12/01/2000 (65 FR 75215) | The United States Air Force is performing, and will continue to perform, cleanup activities at the site pursuant to their authority under the Comprehensive Environmental Response Compensation and Liability Act (CERCLA) with oversight being conducted by the Illinois Environmental Protection Agency (IEPA). IEPA has been, and will continue to be, the lead agency responsible for overseeing the cleanup and will take or ensure appropriate action through a deferral, enforcement, or other agreement. Further documentation may be found in https://www.regulations.gov using Docket number EPA-HQ-SFUND-2000-0004.
Diamond Shamrock Corp. (Painesville Works), Painesville, OH | 05/10/1993 (58 FR 27507) | Operable Unit (OU) #16, the only portion of this site proposed for addition to the NPL, is only one of the 22 OUs that comprise the site. The remaining 21 OUs are being successfully addressed by the responsible parties with oversight by the Ohio Environmental Protection Agency (OEPA) as the lead for cleanup. The State of Ohio through OEPA has agreed to incorporate OU #16 as additional site work under their existing cleanup authority. Through a consent order, OEPA will pursue the monitoring and remedy continuation with the responsible party for the entirety of OU #16 to ensure a unified, site-wide remedy. Further documentation may be found in https://www.regulations.gov using Docket number EPA-HQ-SFUND-1993-0003.
Hudson Technologies, Inc., Hillburn, NY | 05/11/2000 (65 FR 30489) | The responsible party, Hudson Technologies, Inc. (HTI), signed an Order on Consent with the New York State Department of Environmental Conservation (NYSDEC) agreeing to operate the remediation system and perform monthly testing at the facility until remaining groundwater contamination has been effectively abated. The treatment system is preventing any off-site migration from occurring. HTI has implemented appropriate response actions and no further Superfund response is required other than continued operation and maintenance (O&M) of the treatment system. Further documentation may be found in https://www.regulations.gov using Docket number EPA-HQ-SFUND-2000-0007.
Potter Co., Wesson, MS | 05/10/1993 (58 FR 27507) | The Mississippi Department of Environmental Quality (MDEQ) has, and will continue to, ensure all appropriate investigations and cleanup actions are performed pursuant to its state cleanup authority. Cleanup activities continue to be successfully implemented by the responsible party, pursuant to two agreed orders between the responsible party and the state. The main source of contamination was remediated through source removal and no human or ecological exposure pathways remain. The remedy at the site is protective of human health and the environment. Further documentation may be found in https://www.regulations.gov using Docket number EPA-HQ-SFUND-1993-0003.

Authority: 33 U.S.C. 1251 et seq.; 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: April 22, 2021.
Barry Breen,
Acting Assistant Administrator, Office of Land and Emergency Management.

[FR Doc. 2021-08988 Filed 4-29-21; 8:45 am]

BILLING CODE 6560-50-P